DEPARTMENT OF HOMELAND SECURITY

Federal Emergency Management Agency

[Docket ID FEMA-2024-0035]

FEMA Tribal Declarations Interim Guidance

AGENCY: Federal Emergency Management Agency, Department of Homeland Security.

ACTION: Notice of availability; request for comments.

SUMMARY: The Federal Emergency Management Agency (FEMA) is accepting comments on interim guidance, FEMA Tribal Declarations Interim Guidance (Guidance). This Guidance updates FEMA's 2017 Tribal Declarations Pilot Guidance.

DATES: This Interim Guidance is effective December 3, 2024. Comments must be received by January 2, 2025. Late comments will be considered to the extent practicable.

ADDRESSES: The Guidance is available for review on https://www.regulations.gov using the docket number noted above. Interested persons may submit comments through the Federal eRulemaking Portal: https://www.regulations.gov. Follow the instructions for submitting comments.

FOR FURTHER INFORMATION CONTACT: Robert Pesapane, Director, Public Assistance Division, Office of Response and Recovery, DHS/FEMA, 500 C St. SW, Washington, DC 20472-3020. Phone: 202-646-3834; Email: fema-recovery-tribal@fema.dhs.gov.

SUPPLEMENTARY INFORMATION:

I. Public Participation

Interested persons are invited to submit comments and related materials. We will consider all comments and materials received during the comment period. If you submit a comment, include the Docket ID, indicate the specific section of this document to which each comment applies, and give the reason for each comment. All submissions must be posted to https://www.regulations.gov, and will include any personal information you provide. Therefore, submitting this information makes it public. For more about privacy and the docket, visit https://www.regulations.gov/privacy-notice.

The Guidance is available in docket ID FEMA-2024-0035. For access to the docket and to read background documents or comments received, please go to https://www.regulations.gov and search for the docket ID.

II. Background

In 2022, FEMA published the 2022-2026 FEMA National Tribal Strategy to better address the needs of the 574 federally recognized Tribal Nations and recognized the need to update the Tribal Declarations Pilot Guidance. Throughout 2023, FEMA worked in a Nation-to-Nation manner with Tribal Nations across the country through extensive consultations and listening sessions to identify solutions to alleviate barriers faced by Tribal Nations when seeking Federal assistance through disaster declarations. The Guidance revision is a direct outcome of the extensive engagement with Tribal Nations.

FEMA seeks comments on the Guidance, which is available online at https://www.regulations.gov under docket ID FEMA-2024-0035. Based on the comments received, FEMA may make appropriate revisions to the Guidance. When or if FEMA finalizes the Guidance, FEMA will publish a notice of availability in the Federal Register and make the final Guidance available at https://www.regulations.gov. The final Guidance will not have the force and effect of law.

Authority: The Robert T. Stafford Disaster Relief and Emergency Assistance Act, as amended, 42 U.S.C. 5121, et seq.

Deanne B. Criswell,
Administrator, Federal Emergency Management Agency.

[FR Doc. 2024-28272 Filed 12-2-24; 8:45 am]

BILLING CODE 9111-23-P